DEPARTMENT OF TRANSPORTATION

National Highway Traffic Safety Administration

[Docket No. NHTSA-2006-23553; Notice 1]

Pacific Coast Retreaders, Inc., Receipt of Petition for Decision of Inconsequential Noncompliance

Pacific Coast Retreaders, Inc. (Pacific Coast) has determined that certain tires that it imported do not comply with S6.5(b) of 49 CFR 571.119, Federal Motor Vehicle Safety Standard (FMVSS) No. 119, “New pneumatic tires for vehicles other than passenger cars.” Pacific Coast has filed an appropriate report pursuant to 49 CFR part 573, “Defect and Noncompliance Reports.”

Pursuant to 49 U.S.C. 30118(d) and 30120(h), Pacific Coast has petitioned for an exemption from the notification and remedy requirements of 49 U.S.C. Chapter 301 on the basis that this noncompliance is inconsequential to motor vehicle safety.

This notice of receipt of Pacific Coast's petition is published under 49 U.S.C. 30118 and 30120 and does not represent any agency decision or other exercise of judgment concerning the merits of the petition.

Affected are a total of approximately 780 tires produced in March 2005 by Linglong Rubber Company in China and imported by Pacific Coast in April 2005. One requirement of S6.5 of FMVSS No. 119, tire markings, is that the tire identification shall comply with 49 CFR Part 574, “Tire Identification and Recordkeeping,” which includes the marking requirements of 574.5(b) DOT size code. The subject tires are missing the required tire size code.

Pacific Coast believes that the noncompliance is inconsequential to motor vehicle safety and that no corrective action is warranted. Pacific Coast explains that, as a result of mold cleaning and repair, some of the tire size code symbols were not restamped after repair, and worn symbols were not re-traced. Pacific Coast states that “the tire size is embossed in very larger (sic) raised characters on both sidewalls and [is] easily identifiable from a great distance.” The petitioner states that as a result, there is no confusion as to the tire size.

Interested persons are invited to submit written data, views, and arguments on this petition. Comments must refer to the docket and notice number cited at the beginning of this notice and be submitted by any of the following methods. Mail: Docket Management Facility, U.S. Department of Transportation, Nassif Building, Room PL-401, 400 Seventh Street, SW., Washington, DC, 20590-0001. Hand Delivery: Room PL-401 on the plaza level of the Nassif Building, 400 Seventh Street, SW., Washington, DC. It is requested, but not required, that two copies of the comments be provided. The Docket Section is open on weekdays from 10 a.m. to 5 p.m. except Federal Holidays. Comments may be submitted electronically by logging onto the Docket Management System Web site at http://dms.dot.gov. Click on “Help” to obtain instructions for filing the document electronically. Comments may be faxed to 1-202-493-2251, or may be submitted to the Federal eRulemaking Portal: go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: February 21, 2006.

(Authority: 49 U.S.C. 30118, 30120: delegations of authority at CFR 1.50 and 501.8.)
Issued on: January 12, 2006.
Daniel C. Smith,
Associate Administrator for Enforcement.

[FR Doc. E6-522 Filed 1-18-06; 8:45 am]

BILLING CODE 4910-59-P